DEPARTMENT OF THE INTERIOR

National Park Service

Road Modifications for Burr Trail, Environmental Impact Statement, Capitol Reef National Park, UT

AGENCY: National Park Service, Department of the Interior.

ACTION: Notice of intent to prepare an environmental impact statement for the Burr Trail, Capitol Reef National Park.

SUMMARY: Garfield County, Utah, has proposed road modifications to the Burr Trail (Boulder-to-Bullfrog Road) within Capitol Reef National Park. Under the provisions of the National Environmental Policy Act of 1969, the National Park Service is preparing an environmental impact statement (EIS) to evaluate the effects of that proposal. Completion of the EIS process would fulfill a May 31, 2001 Memorandum of Agreement, which established a mutually agreeable procedure between the National Park Service, the State of Utah, and Garfield County, Utah, to conduct compliance on this section of the Burr Trail. The State of Utah and Garfield County, Utah, will be cooperating agencies in the preparation of this EIS.

This effort will identify and evaluate alternatives for proposed road modifications, that may include realignment, resurfacing, and stabilization or drainage modifications along a 1-mile segment of the road. Two additional separate drainage modifications outside this 1-mile segment of Burr Trail will be included in this process. Installation of a National Park Service proposed cattle guard at the park boundary would also be considered. During the evaluation process, alternatives will be developed and evaluated to address resource protection, potential resource impacts, user capacities, and various mitigation practices necessary or desirable to minimize loss of resources. The environmental impact statement process will be conducted in consultation with the U.S. Fish and Wildlife Service, as well as the State Historic Preservation Officer, natural resource management agencies and Tribal representatives, and other interested parties. Attention will also be given to resources outside and adjacent to the boundaries that affect the integrity of Capitol Reef National Park. Alternatives to be considered include no-action, the roadway proposal made by Garfield County, and a minimum of one alternative to the proposed road modifications.

Potential project issues that have been identified to date include alterations of geologic features, landforms, and terrain; biological soil crusts; vegetation; wildlife; threatened and endangered species; surface water; historical, archeological, and ethnographic resources; visitor use, safety, and experience; wilderness values; air quality; natural soundscapes; park operations; and soils.

The public scoping process will involve distribution of a scoping brochure for public response and comment. The scoping brochure will describe the proposed project and the issues identified to date. Copies of that information may be obtained from Sharon Gurr, Capitol Reef National Park, HC 70, Box 15, Torrey, Utah 84775; (435) 425-3791.

DATES: The scoping period will be 30 days from the date this notice is published in the Federal Register.

ADDRESSES: Information will be available for public review and comment in the Office of the Superintendent, Capitol Reef National Park, HC 70, Box 15, Torrey, Utah 84775; (435) 425-3791.

FOR FURTHER INFORMATION CONTACT: Al Hendricks, Superintendent, Capitol Reef National Park (435) 425-3791.

SUPPLEMENTARY INFORMATION: If you wish to comment on the scoping brochure or on any other issues associated with the plan, you may submit your comments by any one of several methods. You may mail comments to Capitol Reef National Park HC 70, Box 15, Torrey, Utah 84775. You may also comment via electronic mail (e-mail) to care_planning@nps.gov. Please submit e-mail comments as a text file avoiding the use of special characters and any form of encryption. Please also include your name, e-mail address, and return mailing address in your e-mail message. If you do not receive a confirmation from the system that we have received your e-mail message, contact Ms. Sharon Gurr, (435) 425-3791. Finally, you may hand-deliver comments to Capitol Reef National Park. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: March 8, 2002.
R. Euerhart,
Acting Director, Intermountain Region, National Park Service.

[FR Doc. 02-8635 Filed 4-9-02; 8:45 am]

BILLING CODE 4310-70-P